DEPARTMENT OF ENERGY

Federal Energy Regulatory Commission

[Docket No. EL10-74-000]

Dogwood Energy, LLC; Notice of Institution of Section 206 Proceeding and Refund Effective Date

August 12, 2010.

On August 11, 2010, the Commission issued an order that instituted a proceeding in Docket No. EL10-74-000, pursuant to section 206 of the Federal Power Act (FPA), 16 U.S.C. 824e, to determine whether Dogwood Energy, LLC's market-based rate authority in the KCP&L Greater Missouri Operations Company balancing authority area remains just and reasonable. Dogwood Energy, LLC, 132 FERC ¶ 61,120 (2010).

The refund effective date in Docket No. EL10-74-000, established pursuant to section 206(b) of the FPA, will be the date of publication of this notice in the Federal Register.

Kimberly J. Bose,
Secretary.

[FR Doc. 2010-20457 Filed 8-17-10; 8:45 am]

BILLING CODE 6717-01-P